FEDERAL COMMUNICATIONS COMMISSION

47 CFR Part 73

[DA 00-1441; MM Docket No. 99-225; RM-9635]

Radio Broadcasting Services; Saint Regis, MT

AGENCY: Federal Communications Commission.

ACTION: Final rule.

SUMMARY: This document allots Channel 256C2 to Saint Regis, Montana, in response to a petition filed by the Battani Corporation. See 64 FR 34753, June 29, 1999. The coordinates for Channel 256C2 at Saint Regis are 47-15-56 NL and 114-51-29 WL. There is a site restriction 18.1 kilometers east of the community. Canadian concurrence has been received for the allotment of Channel 256C2 at Saint Regis. A filing window for Channel 256C2 at Saint Regis will not be opened at this time. Instead, the issue of opening a filing window for this channel will be addressed by the Commission in a subsequent order.

DATES: Effective August 14, 2000.

FOR FURTHER INFORMATION CONTACT: Kathleen Scheuerle, Mass Media Bureau, (202) 418-2180.

SUPPLEMENTARY INFORMATION: This is a summary of the Commission's Report and Order, MM Docket No. 99-225, adopted June 21, 2000, and released June 30, 2000. The full text of this Commission decision is available for inspection and copying during normal business hours in the Commission's Reference Center, 445 12th Street, SW., Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Montana, is amended by adding Saint Regis, Channel 256C2.

Federal Communications Commission.
John A. Karousos,
Chief, Allocations Branch, Policy and Rules Division, Mass Media Bureau.

[FR Doc. 00-18054 Filed 7-14-00; 8:45 am]

BILLING CODE 6712-01-P